DEPARTMENT OF TRANSPORTATION

Federal Aviation Administration

14 CFR Part 39

[Docket No. FAA-2017-1236; Product Identifier 2017-SW-136-AD]

RIN 2120-AA64

Airworthiness Directives; Robinson Helicopter Company Helicopters

AGENCY: Federal Aviation Administration (FAA), DOT.

ACTION: Notice of proposed rulemaking (NPRM).

SUMMARY: We propose to adopt a new airworthiness directive (AD) for certain Robinson Helicopter Company (Robinson Helicopter) Model R66 helicopters. This proposed AD would require inspecting the oil tank outlet's fitting color. If the fitting is blue, this proposed AD would require replacing the tank with an oil tank that lacks a blue fitting. This proposed AD also would require determining the revision letter on the ink stamp, and installing an oil tank angle based on that determination. This proposed AD is prompted by reports of broken oil tank internal baffles. The actions of this proposed AD are intended to correct an unsafe condition on these products.

DATES: We must receive comments on this proposed AD by November 20, 2018.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at http://www.regulations.gov by searching for and locating Docket No. FAA-2017-1236; or in person at Docket Operations between 9 a.m. and 5 p.m., Monday through Friday, except Federal holidays. The AD docket contains this proposed AD, the economic evaluation, any comments received, and other information. The street address for Docket Operations (telephone 800-647-5527) is in the ADDRESSES section. Comments will be available in the AD docket shortly after receipt.

For service information identified in this proposed rule, contact Robinson Helicopter Company, 2901 Airport Drive, Torrance, CA 90505; telephone (310) 539-0508; fax (310) 539-5198; or at http://www.robinsonheli.com/servelib.htm. You may review the referenced service information at the FAA, Office of the Regional Counsel, Southwest Region, 10101 Hillwood Pkwy., Room 6N-321, Fort Worth, TX 76177.

FOR FURTHER INFORMATION CONTACT: Danny Nguyen, Aerospace Engineer, Los Angeles ACO Branch, Compliance and Airworthiness Division, FAA, 3960 Paramount Blvd., Lakewood, California 90712; telephone (562) 627-5247; email danny.nguyen@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

We propose to adopt a new AD for Robinson Helicopters Model R66 helicopters with serial numbers 0003 through 0789, 0791, 0794, and 0796. This proposed AD is prompted by reports of broken oil tank internal baffles caused by vibration. A broken baffle inside the oil tank could block the oil return port, causing loss of oil pressure and oil flow to the engine. This situation could result in engine failure.

This proposed AD consequently would require installing an angle to the oil tank outlet or replacing the oil tank, depending on the oil tank's outlet fitting color or the revision level of the ink stamp on the tank's top surface.

FAA's Determination

We are proposing this AD because we evaluated all known relevant information and determined that an unsafe condition exists and is likely to exist or develop on other products of these same type designs.

Related Service Information Under 1 CFR Part 51

We reviewed Robinson Helicopter Company R66 Service Bulletin SB-21A, Revision A, dated June 6, 2017, which specifies installing an angle in the tank outlet to prevent a failed baffle from blocking the outlet.

This service information is reasonably available because the interested parties have access to it through their normal course of business or by the means identified in the ADDRESSES.

Proposed AD Requirements

This proposed AD would require, within 100 hours time-in-service (TIS), visually inspecting the oil tank outlet fitting color to determine if it is blue. If the fitting is blue, before further flight, replace the tank with an oil tank that does not have a blue fitting would be required. The proposed AD would then require locating the G689-1 oil tank assembly identification ink stamp on the top surface of the oil tank, and determining the revision letter. If the identification ink stamp is followed by a revision letter F, G, H, or I, the proposed AD would require installing a G805-1 angle. If the identification ink stamp is followed by a revision letter J, you would be required to determine if there is a yellow dot near the ink stamp. A yellow dot indicates that the angle has been pre-installed and that no further action would be required by this proposed AD. If there is not a yellow dot near the ink stamp, installing a G805-1 angle would be required. If the identification ink stamp is followed by a revision letter K, no further action would be required by this proposed AD.

Differences Between This Proposed AD and the Service Information

Robinson Helicopters service information specifies performing the corrective actions within the next 100 hours TIS or by July 31, 2017, whichever comes first. This proposed AD would require the actions within 100 hours TIS.

Costs of Compliance

We estimate that this proposed AD would affect 265 helicopters of U.S. Registry and that labor costs average $85 a work-hour. Based on these estimates, we expect the following costs:

• The cost for identifying the oil tank assembly identification ink stamp and outlet fitting color would be minimal.

• Inserting a G805-1 angle would require 1 work-hour for a labor cost of $85. Parts would cost $17 for a total cost of $102 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Robinson Helicopter Company: Docket No. FAA-2017-1236; Product Identifier 2017-SW-136-AD.

(a) Applicability

This AD applies to Robinson Helicopter Company (Robinson) Model R66 helicopters, serial numbers 0003 through 0789, 0791, 0794 and 0796, certificated in any category.

(b) Unsafe Condition

This AD defines the unsafe condition as broken baffle inside an oil tank. This condition could result in loss of oil pressure and oil flow to the engine, leading to engine failure and subsequent forced landing of the helicopter.

(c) Comments Due Date

We must receive comments by November 20, 2018.

(d) Compliance

You are responsible for performing each action required by this AD within the specified compliance time unless it has already been accomplished prior to that time.

(e) Required Actions

Within 100 hours time-in-service:

(1) Visually inspect the oil tank outlet fitting color to determine if it is blue. If the fitting is blue, before further flight, replace the tank with an oil tank that does not have a blue fitting.

(2) Locate the G689-1 oil tank assembly identification ink stamp on the top surface of the oil tank, and determine the revision letter.

(i) If the identification ink stamp is followed by a revision letter F, G, H, or I unless previously installed, install a G805-1 angle as follows:

(A) Drain the engine oil and disconnect the F723-1 line assembly from the tank fitting at the firewall, using as reference Figure 1 of Robinson Helicopter Company R66 Service Bulletin SB-21A, Revision A, dated June 6, 2017.

(B) Pinch the flanges of G805-1 angle at the minimum required to enable insertion, and insert the angle in the oil tank outlet fitting until the angle snaps in place.

(C) Connect the F723-1 line assembly to the tank fitting. Special torque nut to 675 in.-lb. Torque stripe the fitting.

(ii) If the identification ink stamp is followed by a revision letter J, determine if there is a yellow dot near the ink stamp. A yellow dot indicates that the angle has been pre-installed and that no further action is required by this AD. If there is not a yellow dot near the ink stamp, install a G805-1 angle by following the procedures in paragraphs (e)(2)(i)(A) through (e)(2)(i)(C) of this AD.

(iii) If the identification ink stamp is followed by a revision letter K, no further action is required by this AD.

(f) Alternative Methods of Compliance (AMOC)

(1) The Manager, Los Angeles ACO Branch, FAA, may approve AMOCs for this AD. Send your proposal to: Danny Nguyen, Aerospace Engineer, Los Angeles ACO Branch, Compliance and Airworthiness Division, FAA, 3960 Paramount Blvd., Lakewood, California 90712; telephone (562) 627-5247; email 9-ANM-LAACO-AMOC-REQUESTS@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Subject

Joint Aircraft Service Component (JASC) Code: 7910, Engine Oil Storage (Airframe Furnished).

Issued in Fort Worth, Texas, on September 11, 2018.
Scott A. Horn,
Deputy Director for Regulatory Operations, Compliance & Airworthiness Division, Aircraft Certification Service.

[FR Doc. 2018-20490 Filed 9-20-18; 8:45 am]

BILLING CODE 4910-13-P